DEPARTMENT OF DEFENSE

Department of the Army

Notice of Intent To Grant Exclusive Patent License to Dayton Photonics Systems, LLC; Dayton, OH

AGENCY: Department of the Army, DoD.

ACTION: Notice of Intent.

SUMMARY: The Department of the Army hereby gives notice of its intent to grant to Dayton Photonics Systems LLC, a company having its principal place of business at 1800 E Whipp Road, Dayton, Ohio 45440, an exclusive license.

DATES: Written objections must be filed not later than 15 days following publication of this announcement.

ADDRESSES: Send written objections to DEVCOM Army Research Laboratory, Partnership Support Office, FCDD-RLB-SS/AnnMarie Martin, 6468 Integrity Court, B4402, Aberdeen Proving Ground, MD 21005 or email to ORTA@arl.army.mil.

FOR FURTHER INFORMATION CONTACT: AnnMarie Martin, (410) 278-9106, EMail: ORTA@arl.army.mil.

SUPPLEMENTARY INFORMATION: The Department of the Army plans to grant an exclusive license to Dayton Photonics Systems, LLC, which will include the fields of use related to;

—Free space optical communications and free space laser communications. relative to the following;

—“Optical fiber positioner and method for manufacturing same”, ARL 14-43, US Patent No. 9,632,254, Issue Date: 04/05/2017. US Patent Application No. 14/819,621, Filing Date: 08/06/2015.

The prospective exclusive license may be granted unless within fifteen (15) days from the date of this published notice, the U.S. Army Combat Capabilities Development Command Army Research Laboratory receives written objections including evidence and argument that establish that the grant of the license would not be consistent with the requirements of 35 U.S.C. 209(e) and 37 CFR 404.7(a)(1)(i). Competing applications completed and received by the U.S. Army Combat Capabilities Development Command Army Research Laboratory within fifteen (15) days from the date of this published notice will also be treated as objections to the grant of the contemplated exclusive license.

Objections submitted in response to this notice will not be made available to the public for inspection and, to the extent permitted by law, will not be released under the Freedom of Information Act, 5 U.S.C. 552.

James W. Satterwhite Jr.,
Army Federal Register Liaison Officer.

[FR Doc. 2025-02843 Filed 2-19-25; 8:45 am]

BILLING CODE 3711-CC-P